DEPARTMENT OF THE INTERIOR

National Park Service

[NPS-WASO-NAGPRA-NPS0038072; PPWOCRADN0-PCU00RP14.R50000]

Notice of Intended Repatriation: Department of the Interior, National Park Service, Pipe Spring National Monument, Fredonia, AZ

AGENCY: National Park Service, Interior.

ACTION: Notice.

SUMMARY: In accordance with the Native American Graves Protection and Repatriation Act (NAGPRA), the U.S. Department of the Interior, National Park Service, Pipe Spring National Monument (PISP) intends to repatriate certain cultural items that meet the definition of unassociated funerary objects and that have a cultural affiliation with the Indian Tribes or Native Hawaiian organizations in this notice.

DATES: Repatriation of the cultural items in this notice may occur on or after July 11, 2024.

ADDRESSES: Amanda McCutcheon, Superintendent, Pipe Spring National Monument, 406 N Pipe Spring Road, Fredonia, AZ 86022, telephone (928) 643-7105, email amanda_mccutcheon@nps.gov.

SUPPLEMENTARY INFORMATION: This notice is published as part of the National Park Service's administrative responsibilities under NAGPRA. The determinations in this notice are the sole responsibility of the Superintendent, PISP, and additional information on the determinations in this notice, including the results of consultation, can be found in the summary or related records.

Abstract of Information Available

A total of eight cultural items have been requested for repatriation. The eight unassociated funerary objects are two mineral pigments, two lots of shell beads/fragments, one ceramic pot, one ceramic bowl, and two pipe bowls. Journal entries from PISP's first superintendent, Leonard Heaton, describes his finding of these objects alongside human remains. These entries span several years, from 1928 to 1940, and do not provide specifics as to exact locations. The artifacts were not cataloged at the time of discovery and were later found in collections in 1985, along with hand-written envelopes from Heaton.

Determinations

PISP has determined that:

• The eight unassociated funerary objects described above are reasonably believed to have been placed intentionally with or near individual human remains, and are connected, either at the time of death or later as part of the death rite or ceremony and are believed, by a preponderance of the evidence, to have been removed from a specific burial site of an individual or individuals with cultural affiliation to an Indian Tribe or Native Hawaiian organization.

• There is a reasonable connection between the cultural items described in this notice and the Kaibab Band of Paiute Indians of the Kaibab Indian Reservation, Arizona.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 11, 2024. If competing requests for repatriation are received, PISP must determine the most appropriate requestor prior to repatriation. Requests for joint repatriation of the cultural items are considered a single request and not competing requests. PISP is responsible for sending a copy of this notice to the Indian Tribes and Native Hawaiian organizations identified in this notice and to any other consulting parties.

Authority: Native American Graves Protection and Repatriation Act, 25 U.S.C. 3004 and the implementing regulations, 43 CFR 10.9.

Dated: May 31, 2024.
Melanie O'Brien,
Manager, National NAGPRA Program.

[FR Doc. 2024-12718 Filed 6-10-24; 8:45 am]

BILLING CODE 4312-52-P